DELAWARE RIVER BASIN COMMISSION

Notice of Public Hearing and Business Meeting February 14 and March 14, 2018

Notice is hereby given that the Delaware River Basin Commission will hold a public hearing on Wednesday, February 14, 2018. A business meeting will be held the following month on Wednesday, March 14, 2018. The hearing and meeting are open to the public and will be held at the Washington Crossing Historic Park Visitor Center, 1112 River Road, Washington Crossing, Pennsylvania.

Public Hearing. The public hearing on February 14, 2018 will begin at 1:30 p.m. Hearing items subject to the Commission's review will include draft dockets for withdrawals, discharges, and other water-related projects, as well as resolutions: (a) To adopt the fiscal year 2018-2020 Water Resources Program; (b) to clarify and restate the Commission's policy for the replacement of water consumptively used by electric generating or cogenerating facilities during critical hydrologic conditions; and (c) to reauthorize the Regulated Flow Advisory Committee's (RFAC) Subcommittee on Ecological Flows (SEF).

The list of projects scheduled for hearing, including project descriptions, and the text of the proposed resolutions will be posted on the Commission's website, www.drbc.net, in a long form of this notice at least ten days before the hearing date.

Written comments on matters scheduled for hearing on February 14 will be accepted through 5:00 p.m. on February 20.

The public is advised to check the Commission's website periodically prior to the hearing date, as items scheduled for hearing may be postponed if additional time is deemed necessary to complete the Commission's review, and items may be added up to ten days prior to the hearing date. In reviewing docket descriptions, the public is also asked to be aware that project details commonly change in the course of the Commission's review, which is ongoing.

Public Meeting. The public business meeting on March 14, 2018 will begin at 10:30 a.m. and will include: adoption of the Minutes of the Commission's December 13, 2017 Business Meeting, announcements of upcoming meetings and events, a report on hydrologic conditions, reports by the Executive Director and the Commission's General Counsel, and consideration of any items for which a hearing has been completed or is not required. The latter are expected to include a resolution authorizing the Commission to procure janitorial services based on a competitive bidding process.

After all scheduled business has been completed and as time allows, the Business Meeting will be followed by up to one hour of Open Public Comment, an opportunity to address the Commission on any topic concerning management of the basin's water resources, outside the context of a duly noticed, on-the-record public hearing.

There will be no opportunity for additional public comment for the record at the March 14 Business Meeting on items for which a hearing was completed on February 14 or a previous date. Commission consideration on March 14 of items for which the public hearing is closed may result in approval of the item (by docket or resolution) as proposed, approval with changes, denial, or deferral. When the Commissioners defer an action, they may announce an additional period for written comment on the item, with or without an additional hearing date, or they may take additional time to consider the input they have already received without requesting further public input. Any deferred items will be considered for action at a public meeting of the Commission on a future date.

Advance Sign-Up for Oral Comment. Individuals who wish to comment on the record during the public hearing on February 14 or to address the Commissioners informally during the Open Public Comment portion of the meeting on March 14 as time allows, are asked to sign-up in advance through EventBrite, the online registration process recently introduced by the Commission. Links to EventBrite for the Public Hearing and the Business Meeting are available at drbc.net. For assistance, please contact Ms. Paula Schmitt of the Commission staff, at paula.schmitt@drbc.nj.gov.

Addresses for Written Comment. Written comment on items scheduled for hearing may be made through SmartComment, the web-based comment system recently introduced by the Commission, a link to which is posted at drbc.net. Although use of SmartComment is strongly preferred, comments may also be delivered by hand at the public hearing; or by hand, U.S. Mail or private carrier to Commission Secretary, P.O. Box 7360, 25 Cosey Road, West Trenton, NJ 08628. For assistance, please contact Paula Schmitt at paula.schmitt@drbc.nj.gov.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Additional Information, Contacts. Additional public records relating to hearing items may be examined at the Commission's offices by appointment by contacting Carol Adamovic, 609-883-9500, ext. 249. For other questions concerning hearing items, please contact Judith Scharite, Project Review Section assistant at 609-883-9500, ext. 216.

Dated: January 30, 2018.
Pamela M. Bush,
Commission Secretary and Assistant General Counsel.

[FR Doc. 2018-02369 Filed 2-6-18; 8:45 am]

BILLING CODE 6360-01-P